DEPARTMENT OF HEALTH AND HUMAN SERVICES

Centers for Disease Control and Prevention

[60-Day-11-11HU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel L. Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Web-Based HIV Behavioral Survey Among Men Who Have Sex With Men—New—National Center for HIV/AIDS, Viral Hepatitis, STD, and TB Prevention (NCHHSTP), Centers for Disease Control and Prevention (CDC).

Background and Brief Description

The purpose of the proposed information collection is to monitor behaviors related to Human Immunodeficiency Virus (HIV) infection among men who have sex with men (MSM), one of the groups at highest risk for acquiring HIV infection in the United States. Objectives of the proposed web-based behavioral survey of internet-using MSM are to (a) Describe the prevalence of and trends in risk behaviors; (b) describe the prevalence of and trends in HIV testing; (c) describe the prevalence of and trends in use of HIV prevention services; and (d) identify met and unmet needs for HIV prevention services. This information will be used to monitor progress toward the National HIV/AIDS Strategy objectives, and will be shared with health departments, community based organizations, community planning groups and other stakeholders to improve prevention services.

This project also addresses the goals of CDC's HIV prevention strategic plan, specifically the goal of strengthening the national capacity to monitor the HIV epidemic to better direct and evaluate prevention efforts.

The Centers for Disease Control and Prevention request approval for data collection for a period of 3 years. Data will be collected through anonymous online surveys completed by MSM in 56 U.S. jurisdictions (all 50 U.S. states, the District of Columbia, Puerto Rico, American Samoa, Guam, the Northern Mariana Islands, and the U.S. Virgin Islands), with oversampling in 21 metropolitan statistical areas (MSAs) with high AIDS prevalence.

Internet-using MSM will be recruited through a direct marketing method that utilizes selective placement of banner advertisements on non-profit and privately owned websites. Individuals interested in learning more about the survey will click on the banner ad and will be directed to a one-minute screening interview to determine eligibility for participation in a behavioral assessment with an estimated duration of 14 minutes. The data from the assessment will provide estimates of behavior related to the risk of HIV and other sexually transmitted diseases, history of HIV testing, and use of HIV prevention services. No other federal agency collects this type of information nationally from MSM. These data are expected to have substantial impact on prevention program development and monitoring at the local, state, and national levels.

CDC estimates that the proposed web-based behavioral assessment will involve, per year in the 56 U.S. jurisdictions and 21 oversampled MSAs, eligibility screening of 309,090 persons. Of these, an estimated 139,090 either will not be interested in completing the behavioral assessment or will be ineligible after completing the screener and an estimated 170,000 eligible persons will participate in the behavioral assessment, resulting in a total of 510,000 eligible survey respondents and 417,270 ineligible screened persons during a 3-year period.

Participation of respondents is voluntary and there is no cost to the respondents other than their time.

Estimated Annualized Burden Hours
Respondents | Form | No. of respondents | No. of responses per respondent | Average burden per response (in hours) | Total burden (in hours)
Persons screened for eligibility | Eligibility Screener | 309,090 | 1 | 1/60 | 5,152
Eligible persons | Behavioral Assessment | 170,000 | 1 | 14/60 | 39,667
TOTAL |  |  |  |  | 44,819

Daniel L. Holcomb,
Reports Clearance Officer, Centers for Disease Control and Prevention.

[FR Doc. 2011-16332 Filed 6-28-11; 8:45 am]

BILLING CODE 4163-18-P